DEPARTMENT OF ENERGY

International Energy Agency Meetings

AGENCY: Department of Energy.

ACTION: Notice of meetings.

SUMMARY: The Industry Advisory Board (IAB) to the International Energy Agency (IEA) will meet on March 15-16, 2016, at the headquarters of the IEA in Paris, France in connection with a joint meeting of the IEA's Standing Group on Emergency Questions (SEQ) and the IEA's Standing Group on the Oil Market (SOM) on March 17, 2016, in connection with a meeting of the SEQ on that day.

DATES: March 15-17, 2016.

ADDRESSES: 9, rue de la Fédération, Paris, France.

FOR FURTHER INFORMATION CONTACT: Thomas Reilly, Assistant General Counsel for International and National Security Programs, Department of Energy, 1000 Independence Avenue SW., Washington, DC 20585, 202-586-5000.

SUPPLEMENTARY INFORMATION: In accordance with section 252(c)(1)(A)(i) of the Energy Policy and Conservation Act (42 U.S.C. 6272(c)(1)(A)(i)) (EPCA), the following notice of meetings is provided:

Meetings of the Industry Advisory Board (IAB) to the International Energy Agency (IEA) will be held at the headquarters of the IEA, 9, rue de la Fédération, Paris, France, on March 15, 2016, commencing at 2:00 p.m., continuing at 9:30 a.m. on March 16, 2016 and again at 9:30 a.m. on March 17, 2016. The purpose of this notice is to permit attendance by representatives of U.S. company members of the IAB at a joint meeting of the IEA's Standing Group on Emergency Questions (SEQ) and the IEA's Standing Group on the Oil Markets (SOM) on March 17, to be held at the same location commencing at 9:30 a.m. The IAB will also hold a preparatory meeting among company representatives at the same location at 8:30 a.m. on March 16. The agenda for this preparatory meeting is to review the agenda for the SEQ meeting.

The agenda of the joint meeting of the SEQ is under the control of the SEQ. It is expected that the SEQ will adopt the following agenda:

Day 1

1. Adoption of the Agenda

2. Approval of the Summary Record of the 146th Meeting

3. Status of Compliance with IEP Agreement Stockholding Obligations

4. Australian Compliance Update

5. Bilateral Stockholding in non-OECD Countries

6. Association—Handling Association country participation at SEQ meetings

7. Programme Work Budget

8. Outcome of Ministerial Meeting

Day 2

9. ERR Programme

10. Emergency Response Review of the Slovak Republic

11. Mid-Term Review of Japan

12. Update on Exercise in Capitals (EXCAP)

13. Emergency Response Review of Korea

14. Update on ERE8 Arrangements

15. Mexican Accession

16. Outreach Activities

17. Emergency response Review of Hungary

18. Industry Advisory Board Update

19. Emergency Response Review of Spain

20. Mid-Term Review of United States

21. Oral Reports by Administrations

22. Overview of Emergency Response Legislation

23. Saving Oil in a Hurry—Update

24. ERR Report Re-design

25. Other Business

—Provisional 2016 Schedule of SEQ and SOM Meetings

—31 May-2 June

—27-29 September

The agenda of the SEQ meeting on March 17, 2106 is under the control of the SEQ and the SOM. It is expected that the SEQ and the SOM will adopt the following agenda:

1. Adoption of the Agenda

2. Approval of the Summary Record of the 15 October 2015 Joint Session

3. Report on Russian Oil Prospects

4. Report on Recent Oil Market and Policy Developments in IEA Countries

5. The Current Oil Market Situation

6. Panel: Outlook for Oil Markets

7. Floor discussion

8. Other business

—Tentative schedule of upcoming SEQ and SOM meetings for 2016: 31 May-2 June

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Issued in Washington, DC, March 2, 2016.
Thomas Reilly,
Assistant General Counsel for International and National Security Programs.

[FR Doc. 2016-04976 Filed 3-4-16; 8:45 am]

BILLING CODE 6450-01-P